DEPARTMENT OF HOUSING AND URBAN DEVELOPMENT

[Docket No. FR-5317-FA-01]

Announcement of Funding Awards for the Native American Housing Block Grant Recovery Act Competitive Program

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the American Recovery and Reinvestment Act of 2009 (“Recovery Act”) Notice of Funding Availability (NOFA) for the Native American Housing Block Grant (“NAHBG”) Program. This announcement contains the consolidated names and addresses of the award recipients under the NAHBG Recovery Act Program.

FOR FURTHER INFORMATION CONTACT: For questions concerning the NAHBG Program awards, contact the Area Office of Native American Programs (ONAP) serving your area or Deborah M. Lalancette, Office of Native Programs, 1670 Broadway, 23rd Floor, Denver, CO 80202, telephone number 303-675-1600. Hearing or speech-impaired individuals may access this number via TTY by calling the toll-free Federal Information Relay Service at 800-877-8339.

SUPPLEMENTARY INFORMATION: The NAHBG program provides grants to Indian tribes or tribally designated housing entities authorized by one or more tribes pursuant to the Native American Housing Assistance and Self-Determination Act of 1996 (“NAHASDA”). Funds can be used for NAHASDA-eligible activities including acquisition, new construction, rehabilitation of affordable housing, site improvement, development and rehabilitation of utilities and infrastructure, utility services, conversion, demolition, financing, administration and planning, improvements to achieve greater energy efficiency, mold remediation, investments that leverage private sector funding or financing for renovations, and energy retrofit investments.

The awards announced in this Notice were selected for funding in a competition announced in a NOFA posted on the Department's Recovery Act website on May 27, 2009, (http://www.hud.gov/recovery). Applications were scored and selected for funding based on the selection criteria in that notice. The amount appropriated in the Recovery Act to fund the NAHBG Recovery Act Competitive Program was $242,250,000.

In accordance with Section 102(a)(4)(C) of the Department of Housing and Urban Development Reform Act of 1989 (103 Stat.1987, 42 U.S.C. 3545), the Department is publishing the names, addresses, and amounts of the 102 awards made under the national competition in Appendix A to this document.

Dated: October 16, 2009.
Sandra B. Henriquez,
Assistant Secretary for Public and Indian Housing.

Appendix A—Recovery Act Native American Housing Block Grant Awards

Name of applicant | Amount funded | Project description
Alaska Region
Akiachak Native Community, George Peter, President, P.O. Box 70, Akiachak, AK 99551, (907) 825-4626 | $2,000,000 | Construct 7 Homes.
Aleutian Housing Authority, Dan Duame, Executive Director, 520 E. 32nd Avenue, Anchorage, AK 99503, (907) 563-2146 | $1,052,033 | Construct 2 Homes in Sand Point and rehabilitation of 15 mutual help homes in Unalaska.
Arctic Village, Jonathan John, 1st Chief, PO Box 22069, Arctic Village, AK 99722, (907) 587-5523 | $2,000,000 | Construct 6 homes.
Asa'Carsarmiut, James C. Landlord, 1st Chief, PO Box 32249, Mountain Village, AK 99632-2249, (907) 591-2814 | $2,000,000 | Construct 2 homes and access road, rehabilitate 12 homes.
AVCP Regional Housing Authority, Ronald B. Hoffman, President, CEO, P.O. Box 767 Bethel, AK 99559, (907) 543-3121 | $5,000,000 | Construction of office building.
Baranof Island Housing Authority, Bart Meyer, PO Box 517, Sitka, AK 99835, (907) 747-5088 | $2,000,000 | Construct 2 fourplexes.
Bristol Bay Housing Authority, Dave McClure, Executive Director, 111 West 16th Ave., Suite 400, P.O. Box 3310, Dillingham, AK 99510, (907) 842-5956 | $4,000,000 | Construct 5 homes each in Chignik Lake and Port Heiden.
Chilkoot Indian Association, Gregory Stuckey, Tribal Administrator, P.O. Box 490, Haines, AK 99827, (907) 766-2323 | $1,906,866 | Construct 1 four-plex and 3 single family homes.
Cook Inlet Housing Authority, Carol Gore, President/CEO, 3510 Spenard Road, Anchorage, AK 99503, (907) 793-3000 | $5,000,000 | Construct 55 homeownership units in Anchorage.
Ketchikan Indian Corporation, Norman Arriola, President, 2960 Tongass Avenue, Ketchikan, AK 99901, (907) 228-5233 | $2,000,000 | Construct 12-unit Senior Housing Project.
Metlakatla Indian Community Housing Authority, Karl Cook, Chairman, P.O. Box 8, Metlakatla, AK 99926, (907) 886-6500 | $2,000,000 | Install utilities and construct 4 duplexes.
Pribilof Island Aleut Community of St. Paul Island, Patrick Baker, Executive Director, 2050 Venia Minor Rd., St. Paul Island, AK 99660, (907) 223-8754 | $2,000,000 | Construct 6 homes and rehabilitate 25 homes.
Tlingit-Haida Regional Housing Authority, Blake Kazama, President, P.O. Box 32237, Juneau, AK 99803, (907) 780-6868 | $4,000,000 | Construct 17 unit Senior complex in Saxman, Alaska.
Village of Venetie, Ernest Erick, 1st Chief, P.O. Box 81119, Venetie, AK 99781, (907) 849-8212 | $2,000,000 | Construct 6 homes.
Total for Alaska Region | $36,958,899 |
Eastern Woodlands Region
Akwesasne Housing Authority, Retha Herne, Executive Director, 378 State Rt. 37, Hogansburg, NY 13655, (518) 358-9020 | $3,000,000 | Expansion of Sunrise Acres—20 additional rental units.
Aquinnah Wampanoag Tribal Housing Authority, Jane A. Greene, Housing Administrator, PO Box 479, Chilimark, MA 02535, (508) 645-2711 | $1,895,855 | Rehabilitate 25 homes.
Bad River Housing Authority, Joe Bresette, Interim Executive Director, PO Box 57, Odanah, WI 54861, (715) 682-7111 | $2,000,000 | Green House Project 1.
Bay Mills Indian Community Housing Authority, Cheryl Parish, Executive Director, 3095 S. Towering Pines, Brimley, MI 49715, (906) 248-5524 | $2,000,000 | Energy Efficiency Rehab Project.
Bois Forte Band of the Minnesota Chippewa Tribe, Kevin Leecy, Chairperson, PO Box 16, Nett Lake, MN 55772, (218) 757-3261 | $2,000,000 | 16 units of rental housing.
Choctaw Housing Authority, Eric Willis, Executive Director, PO Box 6088, Choctaw, MS 39350, (601) 656-6617 | $2,988,987 | Construct 32 rental units.
Fond du Lac Band of the Minnesota Chippewa Tribe, Karen Diver, Chairperson, 1720 Big Lake Rd., Cloquet, MN 55720, (218) 879-4593 | $2,629,550 | Assisted Living Project.
Grand Portage Housing Authority, Gale Carlson, Executive Director, PO Box 303, Grand Portage, MN 55605, (218) 475-2277 | $2,000,000 | West Village Rental Housing Development Project.
Grand Traverse Band of Ottawa and Chippewa Indians, Derek Bailey, Tribal Chairman, 2605 N West Bay Shore Dr., Peshawbestown, MI 49682, (231) 534-3538 | $2,000,000 | Construction of 16 units.
Hannahville Indian Community, Kenneth Meshigaud, Chairperson, N14911 Hannahville B1 Rd., Wilson, MI 49896, (906) 723-2294 | $1,516,850 | Expansion of Elderly Complex.
Ho-Chunk Housing and Community Development Agency, Mark Butterfield, Executive Director, PO Box 730, Tomah, WI 54660, (608) 374-1245 | $3,000,000 | New Housing Construction, acquisition and rehabilitation.
Houlton Band of Maliseet Indians Housing Authority, Aaron Greenlaw, Executive Director, PO Box 13, Houlton, ME 04730, (207) 532-7638 | $2,000,000 | New Housing Construction.
Keweenaw Bay Ojibwa Housing Authority, Eddy Edwards, Executive Director, 220 Main St., Baraga, MI 49908, (906) 353-7117 | $1,974,968 | Beartown Subdivision—New Home Construction.
Lac Courte Oreilles Housing Authority, Jean Thayer, Executive Director, 13416 W. Trepania Rd., Hayward, WI 54843, (715) 634-2147 | $3,000,000 | New Housing Construction.
Lac du Flambeau Chippewa Housing Authority, Gary Smith, Executive Director, PO Box 187, Lac du Flambeau, WI 54538, (715) 586-3348 | $2,000,000 | Green Rehabilitation.
Lac Vieux Desert Band of Lake Superior Chippewa, Anthony LaBine, Executive Director, PO Box 466, Watersmeet, MI 49969, (906) 358-0344 | $1,996,338 | Construction of Community Center and 9 new homes.
Leech Lake Housing Authority, Marlene Mitchell, Executive Director, PO Box 938, Cass Lake, MN 56633, (218) 335-8280 | $3,000,000 | New Housing Construction.
Little River Band of Ottawa Indians, Larry Romanelli, Ogema, 375 River St., Manistee, MI 49660, (231) 723-8288 | $2,000,000 | New Housing Construction.
Little Traverse Bay Bands of Odawa Indians, Ken Harrington, Chairman, 7500 Odawa Circle, Harbor Springs, MI 49740, (231) 242-1402 | $2,000,000 | Little Murray Road Housing Development Project.
Lower Sioux Indian Housing Authority, Karen Bogan, Housing Director, PO Box 308, Morton, MN 56270, (507) 697-6412 | $2,000,000 | Construction of 6 new homes.
Lumbee Tribe of North Carolina, Jimmy Goins, Chairperson, PO Box 2709, Pembroke, NC 28372 | $4,000,000 | Housing Rehabilitation.
Mashpee Wampanoag Tribe, Cedric Cromwell, Chairperson, 483 Great Neck Rd. South, Mashpee, MA 02649, (508) 477-0208 | $2,000,000 | Infrastructure for 50 new homes.
Match E-Be-Nash-She-Wish Band of the Pottawatomi, David K. Sprague, Chairman, PO Box 218 Dorr, MI 49323, (616) 681-8830 | $2,000,000 | Build 5 to 7 new homes.
Menominee Indian Tribe of Wisconsin, Lisa Waukau, Chairperson, PO Box 910, Keshena, WI 54135, (715) 799-5114 | $3,000,000 | Renovation of 131 units.
MOWA Band of Choctaw Housing Authority, Craig Taylor, Executive Director, 1080 Red Fox Rd., Mt. Vernon, AL 36560, (251) 829-5000 | $960,000 | Nine units of Single Family Housing.
Narragansett Indian Tribe of RI, Matthew Thomas, Chief Sachem, PO Box 268, Charlestown, RI 02813 | $2,000,000 | Rehabilitation of Elderly Housing Project.
Nottawaseppi Huron Band of the Potawatomi, Laura Spurr, 2221 11/2 Mile Road, Fulton, MI 49052, (269) 729-5151 | $2,000,000 | New Housing and Infrastructure.
Oneida Tribe of Indians of Wisconsin, Rick Hill, Chairperson, PO Box 365, Oneida, WI 54155, (920) 869-4000 | $3,000,000 | Energy Efficiency Project.
Pleasant Point Reservation Housing Authority, Reuben Cleaves, Executive Director, 15 Elders Way, Suite 201, Perry, ME 04667, (207) 853-0900 | $2,000,000 | New Housing Construction of Affordable Housing.
Pokagon Band of Potawatomi Indians, Matt Wesaw, Chairperson, PO Box 180, Dowagiac, MI 49047, (269) 782-8998 | $2,000,000 | Housing Community Center.
Red Cliff Housing Authority, Raymond DePerry, Executive Director, 37645 New Housing Rd., Bayfield, WI 54814, (715) 779-3744 | $2,000,000 | New Housing Construction.
Red Lake Reservation Housing Authority, Jane Barrett, Executive Director, PO Box 219, Red Lake, MN 56671, (218) 679-3368 | $3,000,000 | New Housing Construction.
Sault Ste Marie Tribe Housing Authority, Joni Talentino, Director, 154 Parkside Drive, Kincheloe, MI 49788, (906) 495-5555 | $3,000,000 | Housing Rehabilitation.
Seneca Nation Housing Authority, Wenona Scott, MPA, Executive Director, 50 Iroquis Dr., Irving NY (716) 532-5000 | $3,000,000 | New Construction of 15 housing units.
Sokaogon Chippewa Community, Arlyn Ackley, Chairperson, 3051 Sand Lake Rd., Crandon, WI 54520, (715) 478-7500 | $1,885,661 | New Housing Construction.
Stockbridge-Munsee Community of Wisconsin, Robert Chicks, President, N. 8476 He Con Nuck Rd., Bowler, WI 54416, (715) 793-4387 | $2,000,000 | New Housing Construction.
White Earth Reservation Housing Authority, Robert Durant, Executive Director, 3303 Hwy #59, Waubun, MN 56589, (218) 473-4663 | $3,000,000 | New Housing Construction.
Total for Eastern Woodlands Region | $85,848,209 |
Northern Plains Region
Northern Arapaho Tribal Housing Authority, Patrick Goggles, Executive Director, 501 Ethete Road, Ethete, WY 82520, (307) 332-5318 | $1,596,000 | Construct 12 single-family units.
Northern Cheyenne Tribal Housing Authority, Lafe Haugen, Executive Director, P.O. Box 327, Lame Deer, MT 59043, (406) 477-6419 | $3,000,000 | Upgrade water system for 14 families and rehabilitate 75 single-family units.
Oglala Sioux (Lakota) Housing Authority, Paul Iron Cloud, CEO, P.O. Box 603, Pine Ridge, SD 57770, (605) 867-5161 | $4,000,000 | Construct 18 single-family units and develop sites for future housing.
Salish & Kootenai Housing Authority, Jason Adams, Executive Director, P.O. Box 38, Pablo, MT 59855, (406) 675-4491 | $3,000,000 | Construct 8 duplexes (16 units).
Sicangu Wicoti Awanyakapi (Rosebud) Corp., Amos Prue, CEO, P.O. Box 69, Rosebud, SD 57570, (605) 747-2203 | $4,000,000 | Develop infrastructure for 85 new home sites.
Utah Paiute Housing Authority, Jessie Laggis, Executive Director, 665 North, 100 East Cedar City, UT 84721, (435) 586-1122 | $2,000,000 | Rehabilitate 88 units.
Total for Northern Plains Region | $17,596,000 |
Northwest Region
Cowlitz Indian Tribal Housing, Mr. Larry Coyle, Executive Director, PO Box 711, 107 Spencer Road, Chehalis, WA 98532, (360) 864-8720 | $2,624,865 | Project 1 is for construction of a wastewater treatment facility for a 36 unit housing development near Toledo, WA (98591) Project 2 is to provide infrastructure (roads, sewer, and water) for a planned 31 unit housing development in Toledo, WA (98591).
Suquamish Tribe, Mr. Leonard Forsman, Tribal Chairman, PO Box 498, Suquamish, WA 98392, (360) 394-8400 | $1,902,448 | Project 1 is for construction of 8 homes including a neighborhood playground. Project 2 is for construction of 2 elder units, provide infrastructure (road and sidewalks) improvements, and rehabilitate a community center.
Coos, Lower Umpqua & Siuslaw Tribe, Ms. Wendy Williford, Tribal Council, 1245 Fulton Ave., Coos Bay, OR 97420-2895, (541) 888-2853 | $1,998,800 | Project 1 is for construction of 4 duplexes (8 units) in Qaxas Heights near North Bend, OR (97459) Project 2 is to acquire and rehabilitate 4 units (2 duplexes or 1 4-plex) near Florence, OR (97439).
Coeur D'Alene Tribal Housing Authority, Ms. Cielo Gibson, Executive Director, P.O. Box 267 Plummer, ID 83851, (208) 686-1927 | $2,000,000 | Construction of 12 3-Bedroom Housing Units & Underground Cistern for Rainwater Harvesting at Gathering Place Subdivision.
Colville Indian Housing Authority, Ms. Elena Bassett, Executive Director, P.O. Box 528, Nespelem, WA 99155, (509) 634-4767 | $3,000,000 | Construction of 27 homes and a Community Center.
Kalispel Tribe of Indians, Mr. Glen Nenema, Tribal Chairman, P.O. Box 39, Usk, WA 99180, (509) 445-1147 | $1,034,542 | Construction of 6 Housing Units (1 2-BDR, 3 3-BDR, and 2 4-BDR homes).
Lummi Indian Housing Authority, Ms. Diana Phair, Executive Director, 2828 Kwina Road, Bellingham, WA, (360) 312-8407 | $3,000,000 | Construct 36 Apartment Units.
Port Gamble S'Klallam Housing Authority, Ms. Teresa Lange, Executive Director, 3200 Little Boston Road, N.E., Kingston, WA 98346-0155, (360) 297-6275 | $1,679,763 | Construction of 14 new affordable Rental Housing units.
Puyallup Nation Housing Authority, Ms. Annette Bryan, Executive Director, P.O. Box 1844, 2806 East Portland Ave., Ste 200, Tacoma, WA 98404-1844, (253) 573-7956 | $3,000,000 | Construction of 10 (ten) Housing Units, Community Building, Site Amenities, and a Maintenance Building.
Quinault Housing Authority, Ms. Tina DeLaCruz, Executive Director, P.O. Box 160, Taholah, WA 98587, (360) 276-4320 | $2,000,000 | Construction of 18 new affordable Housing units on lots at Qui-Nai-Elt Village subdivision.
Confederated Tribes of Siletz Indians, Ms. Delores Pigsley, Tribal Chairperson, P.O. Box 549, Siletz, OR 97380, (503) 444-8340 | $2,935,000 | Construction of 16 new apartments (8 at Lakeside Village and 8 at Gwee Shut Road).
Squaxin Island Tribe, Mr. Brian Thompson, Planning Director, 10 S.E. Squaxin Lane, Shelton, WA 98584, (360) 432-3907 | $1,196,160 | Construction of 2 six-unit Apartment Buildings at Slocum Ridge III Multifamily Housing Project.
Yakama Nation Housing Authority, Mr. James Berg, Executive Director, P.O. Box 156, Wapato, WA 98951-1499, (509) 877-6171 | $3,000,000 | Housing repairs and improvements for at least 64 low-income families.
Total for Northwest Region | $29,371,578 |
Southern Plains Region
Absentee Shawnee Housing Authority, Sherry Gleckler, Executive Director, PO Box 425, Shawnee, OK, 74802, (405) 273-1050 | $2,677,572 | Rehabilitation approximately 50 homes in our low rent program. New construction of 5 homes (including 1 handicap accessible unit).
Cherokee Nation, Chad Smith, Principal Chief, PO Box 948, Tahlequah, OK, 74465, (918) 456-0671 | $5,000,000 | Three activities: (1) Construction of utility and related infrastructure to support 30 house sites at “Redbird” site; (2) construction of utility and related infrastructure to support 26 house sites at the “Fairfield” site; and (3) construction of 15 energy efficient houses at the “Redbird” site for eligible applicants.
Cheyenne-Arapaho Housing Authority, Reggie Wassana, Executive Director, 2100 Dog Patch Road, Clinton, OK, 73601, (580) 331-2401 | $3,000,000 | Rehabilitation of community building; renovations of 71 tribal elder's homes; and Acquisition of three (3) homes for low-income tribal members.
Choctaw Nation Housing Authority, Russell Sossamon, Executive Director, PO Box G, Hugo, OK 74743, (580) 326-7521 | $4,000,000 | Construction of 32, 1-bedroom, single family rental units for the low-income elderly (4 locations, 8 units each location: Durant, Hugo, Talihina, and Idabel, OK).
Citizen Potawatomi Nation, John A. Barrett, Chairman, 1601 South Gordon Cooper Drive, Shawnee, OK 74801, (405) 275-3121 | $2,745,831 | Development of infrastructure elder housing complex and construction of 10 duplexes (20 unites).
Iowa Tribe of KS and NE Housing Authority, Brad Campbell, Executive Director, PO Box 68, White Cloud, KS, 66094, (785) 595-3380 | $1,983,000 | Construct ten (10) home ownership units and the infrastructure units for qualified applicants.
HA of Peoria Tribe of Indians of Oklahoma, Claude Landers, Executive Director, 3606 Sencay Avenue, Miami, OK 74354, (918) 542-1873 | $2,000,000 | Construction of 14 low income residential rental units in three duplexes and two single family residences.
Muscogee (Creek) Nation, A.D. Ellis, Principal Chief, PO Box 580, Okmulgee, OK 74447, (918) 756-8700 | $5,000,000 | Elderly Housing Construction for 24 units within existing complex.
Seminole Nation Housing Authority, Thomas McGeisey, Executive Director, PO Box 1493, 101 S. Hitchite Avenue, Wewoka, OK 74884, (405) 257-6604 | $2,000,000 | Roads, water lines and electrical infrastructure for Econtuchka Estates that will result in 15 single family residences, 50 multi-family residences, and a recreational/wellness center.
Tonkawa Tribe, Donald L.Patterson, President, 1 Rush Buffalo Road, Tonkawa, OK 74653, (580) 628-2561 | $1,937,804 | Rehabilitate 74 low-income homes to include energy efficient appliances, windows, water saving devices, and handicap accessibility.
Wichita Tribe Housing Authority, Ben Hatfield, Executive Director, 1 Coronado Circle, Anadarko, OK 73005, (405) 247-7470 | $2,000,000 | Construction for fourteen (14) new energy-efficient housing units construction and acquisition/payoff of three (3) duplexes.
Wyandotte Nation, Leaford Bearskin, Chief, 64700 E. Highway 60, Wyandotte, OK 74370, (918) 678-2297 | $1,717,490 | Energy efficient new rental construction of twelve (12) single-family units and two (2) duplex units for low to moderate income tribal members.
Total for Southern Plains Region | $34,061,697 |
Southwest Region
All Mission Indian Housing Authority, Dave Shaffer, Executive Director, 27740 Jefferson Avenue, Suite 200, Temecula, CA 92590, (951) 760-7390 | $2,000,000 | New construction of 8 single-family homes, 2 on each member reservation for Cahuilla, Torres-Martinez, Santa Rosa, and La Jolla.
Bear River Band of Rohnerville Rancheria, Leonard Bowman, Tribal Chairperson, 27 Bear River Drive, Loleta, CA 95551, (707) 733-1900 | $2,000,000 | New housing construction of 9 single-family homeownership units (Tish Non Village) on land located immediately adjacent to the Rancheria and purchased with Tribal funds.
Bishop Paiute Tribe, Monty Bengochia, Chairperson, P.O. Box 548, 50 Tu Su Lane, Bishop, CA 93514-8058, (760) 873-3584 | $1,998,580 | Rehabilitate and modernize 31 homes on the reservation.
Chico Rancheria Housing Corporation, Heath Browning, Executive Director, 585 East Avenue, Chico, CA 95926, (530) 343-4048 | $1,758,000 | Acquisition of 3 rental housing units.
Fort Bidwell Paiute Indian Community, Aaron Townsend, Chairperson, P.O. Box 129, Fort Bidwell, CA 96112, (530) 279-6310 | $2,000,000 | Housing Rehabilitation of 15—2 & 3 bedroom homes and 5—2 bedroom apartments located on the reservation.
Greenville Rancheria of Maidu Indians, Kyle Self, Chairperson, P.O. Box 279, Greenville, CA 95947, (530) 284-7990 | $2,000,000 | Construction of 7 single-family homes.
Isleta Pueblo Housing Authority, Edward Torres, Executive Director, P.O. Box 760, Isleta, NM 87022-0760, (505) 869-4153 | $2,000,000 | New Construction of 20 New Homes located at the Sunset Hills III subdivision.
Karuk Tribe Housing Authority, Sami Jo Difuntorum, Executive Director, P.O. Box 1159, Happy Camp, CA 96039 | $2,936,850 | Rehabilitate & modernize 30 single family homes at Happy Camp.
Laguna Housing Development & Management Enterprise, William Sommers, Executive Director, P.O. Box 178, Laguna, NM 87026, (505) 552-6430 | $2,000,000 | New construction of 18 rental housing units.
Manzanita Band of Diegueno Indians, Nelson Pinola, Chairperson, P.O. Box 1302, Boulevard, CA 91905, (619) 766-4930 | $1,965,662 | Purchase and install ten (10) manufactured homes for low- and moderate-income persons on the Manzanita Reservation.
Mescalero Apache Housing Authority, Alvin Benally, Acting Executive Director, P.O. Box 227, Mescalero, NM 88340, (575) 464-9235 | $3,000,000 | Housing Rehabilitation of 34 units in Pena's Subdivision.
Modoc Lassen Indian Housing Authority, Phil Bush, Executive Director, 401 Peninsula Drive, Suite 6, Lake Almanor, CA 96137, (530) 596-4127 | $2,000,000 | Moderate rehabilitation of 8 tribal housing units and 31 rental housing stock units. Replacement of 4 housing units. Purchase and installation of 3 new modular housing units on vacant lots in an existing subdivision.
Nambe Pueblo Housing Entity, Christine Brock, Executive Director, 11 West Gutierrez, P.O. Box 3456, Santa Fe, NM 87510, (505) 455-0158 | $2,000,000 | Infrastructure including streets, curbs, and gutters for the Buffalo Range Housing Subdivision
Ohkay Owingeh Housing Authority, Tomasita Duran, Executive Director, P.O. Box 1059, Ohkay Owingeh, NM 87566, (505) 852-0189 | $2,000,000 | Rehabilitation of 22 traditional adobe homes occupied by low or moderate income (LMI) homeowners and residents in the historic Ohkay Owingeh plaza area.
Pinoleville Pomo Nation, Leona L. Williams, Tribal Chair, 500 B. Pinoleville Drive, Ukiah, CA 95482, (707) 468-3835 | $375,511 | Construction of 6 new 4-bedroom, 2-bath homes for low-income Tribal citizens.
San Felipe Pueblo Housing Authority, Isaac Perez, Executive Director, P.O. Box 4222, San Felipe Pueblo, NM 87001, (505) 771-9291 | $2,000,000 | Infrastructure for 100 acre affordable housing sub-division on the Pueblo of San Felipe.
Susanville Indian Rancheria Housing Authority, George Baker, Executive Director, P.O. Box 970, Susanville, CA 96130, (530) 257-5033 | $799,236 | Infrastructure improvements including road extension and utilities, street work, a storm drain system, water system, sewer system, electrical system and erosion control to support new home sites.
Taos Pueblo Housing, John Mirabal, Executive Director, P.O. Box 2570, Taos, NM 87571, (575) 737-9704 | $579,778 | Construction of new Taos Pueblo Housing Office Building.
Yerington Paiute Tribal Housing Authority, Ralph Rogers, Executive Director, 31 West Loop Road, Yerington, NV 89447, (775) 463-2225 | $2,000,000 | New Housing Construction of 7 units in the Willows Court Subdivision.
Zuni Housing Authority, Michael Chavez, Executive Director, P.O. Box 710, Zuni Pueblo, NM 87024-0710, (505) 782-4564 | $3,000,000 | New Housing Construction of 12 homes (Phase III) of a master-planned community.
Total for Southwest Region | $38,413,617 |
Grand Total | $242,250,000 |

[FR Doc. E9-25731 Filed 10-26-09; 8:45 am]

BILLING CODE 4210-67-P